DEPARTMENT OF THE INTERIOR

Bureau of Land Management

[LLCAN01000.L10200000.XZ0000]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, August 11 and 12, 2011, at the Bureau of Land Management Ukiah Field Office, 2550 North State Street, Ukiah, California. On August 11, the meeting is from noon to 5 p.m. Public comments will be accepted at 2:30 p.m. On August 12, the meeting runs from 8 a.m. to noon.

FOR FURTHER INFORMATION CONTACT: Nancy Haug, BLM Northern California District manager, (530) 221-1743; or Joseph J. Fontana, public affairs officer, (530) 252-5332.

SUPPLEMENTARY INFORMATION: The 12-member council advises the Secretary of the Interior, through the BLM, on a variety of planning and management issues associated with public land management in Northwest California. At this meeting the RAC will discuss a proposed wind energy project on Walker Ridge in Lake and Colusa counties, California. All meetings are open to the public. Members of the public may present written comments to the council. Each formal council meeting will have time allocated for public comments. Depending on the number of persons wishing to speak, and the time available, the time for individual comments may be limited. Members of the public are welcome on field tours, but they must provide their own transportation and meals. Individuals who plan to attend and need special assistance, such as sign language interpretation and other reasonable accommodations, should contact the BLM as provided above.

Dated: May 17, 2011.
Joseph J. Fontana,
Public Affairs Officer.

[FR Doc. 2011-13233 Filed 5-26-11; 8:45 am]

BILLING CODE 4310-40-P